FEDERAL HOUSING FINANCE AGENCY

[No. 2012-N-10]

Privacy Act of 1974; System of Records

AGENCY: Federal Housing Finance Agency.

ACTION: Notice of proposed revision of system of records, establishment of new systems of records, and the removal of systems of records notices; request for comments.

SUMMARY: In accordance with the requirements of the Privacy Act of 1974, as amended (Privacy Act), the Federal Housing Finance Agency (FHFA) gives notice of and requests comments on the proposed revision of one existing system of records, the establishment of four new systems of records, and the removal of three existing systems of records notices.

The revised existing system of records is “Fraud Reporting System” (FHFA-6). The proposed systems of records are: “Visitor Badge, Employee and Contractor Personnel Day Pass, and Trackable Mail System” (FHFA-17), “Reasonable Accommodation Information System” (FHFA-18), “Computer Systems Activity and Access Records System” (FHFA-19), and “Telecommunications System” (FHFA-20).

In addition, upon the effective date of this notice, the Office of Federal Housing Enterprise Oversight systems of records notices, “OFHEO-10 Reasonable Accommodation Information System” (73 FR 19236 (April 9, 2008)), “OFHEO-08 Computer Systems Activity and Access Records System” (71 FR 6085 (February 6, 2006)), and “OFHEO-09 Telecommunications System” (71 FR 39123 (July 11, 2006)) will be removed.

DATES: The effective date of the notice is September 18, 2012 unless comments necessitate otherwise. FHFA will publish a new notice if, in order to review comments, the effective date is delayed or if changes are made based on comments received. To be assured of consideration, comments must be received on or before September 10, 2012.

ADDRESSES: Submit comments, identified by “2012-N-10,” using only one of the following methods:

• Email: Comments to Alfred M. Pollard, General Counsel, may be sent by email to RegComments@fhfa.gov. Please include “2012-N-10” in the subject line of the message.

• Federal eRulemaking Portal: http://www.regulations.gov. Follow the instructions for submitting comments. If you submit your comment to the Federal eRulemaking Portal, please also send it by email to FHFA at RegComments@fhfa.gov to ensure timely receipt by FHFA. Please include “2012-N-10” in the subject line of the message.

• U.S. Mail, United Parcel Service, Federal Express, or Other Mail Service: The mailing address for comments is: Alfred M. Pollard, General Counsel, Attention: Comments/2012-N-10, Federal Housing Finance Agency, 400 Seventh Street SW., Washington, DC 20024. Please note that all mail sent to the FHFA via the U.S. Postal Service is routed through a national irradiation facility, a process that may delay delivery by approximately two weeks. For any time-sensitive correspondence, please plan accordingly.

• Hand Delivered/Courier: The hand delivery address is: Alfred M. Pollard, General Counsel, Attention: Comments/2012-N-10, Federal Housing Finance Agency, 400 Seventh Street SW., Washington, DC 20024. The package should be delivered to the Seventh Street entrance Guard Desk, First Floor, on business days between 9 a.m. to 5 p.m.

See SUPPLEMENTARY INFORMATION for additional information on submission and posting of comments.

FOR FURTHER INFORMATION CONTACT: Stacy Easter, Privacy Act Officer, privacy@fhfa.gov or 202-649-3803, or David A. Lee, Senior Agency Official for Privacy, privacy@fhfa.gov or 202-649-3803 (not toll free numbers), Federal Housing Finance Agency, Eighth Floor, 400 Seventh Street SW., Washington, DC 20024. The telephone number for the Telecommunications Device for the Deaf is 800-877-8339.

SUPPLEMENTARY INFORMATION:

I. Comments

FHFA seeks public comments on the revised and proposed systems of records, and will take all comments into consideration. See 5 U.S.C. 552a(e)(4) and (11). In addition to referencing “Comments/2012-N-10,” please reference the title and the system of records number your comment addresses.

All comments received will be posted without change on the FHFA Web site at http://www.fhfa.gov, and will include any personal information provided, such as name, address (mailing and email), and telephone numbers. In addition, copies of all comments received will be available without change for public inspection on business days between the hours of 10 a.m. and 3 p.m., at the Federal Housing Finance Agency, Eighth Floor, 400 Seventh Street SW., Washington, DC 20024, without change. To make an appointment to inspect comments, please call the Office of General Counsel at 202-649-3804.

II. Introduction

This notice satisfies the Privacy Act requirement that an agency publish a system of records notice in the Federal Register when there is an addition or change to an agency's systems of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Acting Director of FHFA has determined that records and information in these five systems of records are not exempt from the requirements of the Privacy Act.

As required by the Privacy Act, 5 U.S.C. 552a(r), and pursuant to paragraph 4c of Appendix I to OMB Circular No. A-130, “Federal Agency Responsibilities for Maintaining Records About Individuals,” dated February 8, 1996 (61 FR 6427, 6435 February 20, 1996), FHFA has submitted a report describing the five systems of records covered by this notice to the Committee on Oversight and Government Reform of the House of Representatives, the Committee on Homeland Security and Governmental Affairs of the Senate, and the Office of Management and Budget.

III. Proposed Systems of Records

The system of records “Fraud Reporting System” (FHFA-6) is being revised to address new records that will be collected, to update the routine uses of such records, and to make non-substantive edits.

The proposed new system “Visitor Badge, Employee and Contractor Personnel Day Pass, and Trackable Mail System” (FHFA-17), will contain records related to members of the public and employees and contractor personnel from other Federal agencies who visit FHFA; FHFA employees and contractor personnel who require a day pass to access FHFA facilities; and FHFA employees who pre-register or authorize visitors to enter FHFA facilities. The system also covers individuals or organizations that send or deliver trackable mail to FHFA (e.g., express mail, courier mail, or other forms of mail that are tracked from the sender to the recipient).

The other three proposed systems of records notices will revise and replace three existing systems of records notices issued by one of FHFA's predecessor agencies, the Office of Federal Housing Enterprise Oversight (OFHEO). The underlying systems remain intact. New notices, with additional information collected, and routine uses identified, are being issued to reflect that OFHEO no longer exists and that the new notices are issued by FHFA. These three proposed systems are described below.

The “Reasonable Accommodation Information System” (FHFA-18) will contain information related to requests for reasonable accommodation from employees, applicants, or others. This new system of records notice will replace the system of records notice issued by OFHEO, “OFHEO-10 Reasonable Accommodation Information Systems” (73 FR 19236 (April 9, 2008)), which will be removed on the effective date of this notice.

The “Computer Systems Activity and Access Records System” (FHFA-19) will contain information related to use of FHFA computer systems. This system of records notice will replace the system of records notice issued by OFHEO, “OFHEO-08 Computer Systems Activity and Access Records Systems” (71 FR 6085 (February 6, 2006)), which will be removed on the effective date of this notice.

The “Telecommunications System” (FHFA-20) will contain information related to the use of FHFA telecommunication systems. This system of records notice will replace the system of records notice issued by OFHEO, “OFHEO-9 Telecommunications Systems” (71 FR 39123 (July 11, 2006)), which will be removed on the effective date of this notice.

The revised and proposed systems of records notices are set out in their entirety and described in detail below.

FHFA-6

System Name:

Fraud Reporting System.

Security Classification:

Unclassified but sensitive.

System Location:

Federal Housing Finance Agency, 400 7th Street SW., Washington, DC 20024; and any alternate work site utilized by employees of the Federal Housing Finance Agency or by individuals assisting such employees.

Categories of Individuals Covered by the System:

Information about individuals who are suspected of or have been found to have engaged in fraud or possible fraud in connection with the origination, funding, sale, purchase or insurance of a mortgage loan, or the related real estate transaction, or a financial instrument involving the Federal National Mortgage Association, the Federal Home Loan Mortgage Corporation, or the Federal Home Loan Banks (individually “regulated entity”, and collectively, “regulated entities”), or who are suspected of or have been found to have engaged in other financial misconduct. Such records may also include information on individuals: (a) Who have or are currently engaged in a transaction with a regulated entity; (b) who have performed or are currently performing services that relate to transactions with a regulated entity; (c) who are directors, officers, employees, agents of a regulated entity, or other institution engaged in financial transactions or mortgage services; (d) who are actual or potential victims of fraud or possible fraud; (e) who are named as possible witnesses; (f) who have or might have information about reported matters; (g) who are named as preparers of any reports; and (h) who are named as persons to be contacted by FHFA.

Categories of Records in the System:

Records may include name, address, telephone number, electronic mail address, Social Security number, name of institution(s) involved, financial information (such as account number, mortgage loan amount, amount of suspected fraud, and other loan or financial information), online profile or account information, and information pertaining to criminal prosecutions, civil actions, enforcement proceedings, and investigations resulting from or relating to the fraud or suspected fraud.

Authority for Maintenance of the System:

The system is established and maintained pursuant to 12 U.S.C. 4513, 4513b, 4514, 4526 and 4642 and 12 CFR part 1233.

Purpose(s):

The information in this system of records will be used by FHFA in carrying out the statutory authorities of the Director to require the regulated entities to report fraud or suspected fraud involving a mortgage loan, financial instrument purchased or sold by a regulated entity, or other financial misconduct consistent with the safety and soundness responsibilities of FHFA under the Federal Housing Enterprises Financial Safety and Soundness Act of 1992, as amended.

Routine Uses of Records Maintained in the System, Including Categories of Users and the Purposes of such Uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization, including the Financial Crimes Enforcement Network and other law enforcement and government entities, as determined by FHFA to be appropriate and that are charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To a court, magistrate, or administrative tribunal in the course of presenting evidence, including disclosures to opposing counsel or witnesses in the course of civil discovery, litigation, or settlement negotiations, or in connection with criminal law proceedings, or in response to a subpoena from a court of competent jurisdiction.

(9) To the Office of Management and Budget, Department of Justice (DOJ), Department of Labor, Office of Personnel Management, Equal Employment Opportunity Commission, Office of Special Counsel, Department of Homeland Security, or other Federal agencies to obtain advice regarding statutory, regulatory, policy, and other requirements related to the purpose for which FHFA collected the records.

(10) To DOJ, (including United States Attorney Offices), or other Federal agencies conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(11) To the National Archives and Records Administration or other Federal agencies pursuant to records management inspections being conducted under the authority of 44 U.S.C. 2904 and 2906.

(12) To a Federal agency, organization, or individual for the purpose of performing audit or oversight operations as authorized by law, but only such information as is necessary and relevant to such audit or oversight function.

(13) To a regulated entity.

(14) To a federal, state, local, tribal, foreign, or international agency in response to its request for information concerning the hiring or retention of an employee; the issuance of a security clearance; the reporting of an investigation of an employee; the letting of a contract; or the issuance of a license, grant, or other benefit by the requesting agency, to the extent that the information is relevant and necessary to the requesting agency's decision on the matter.

(15) To a Bar Association, Accountancy Board, or other federal, state, local, tribal, or foreign licensing or oversight authority; or professional association or self-regulatory authority to the extent that it performs similar functions (including the Public Company Accounting Oversight Board) for investigations or possible disciplinary action.

Disclosure to Consumer Reporting Agencies:

Pursuant to 5 U.S.C. 552a(b)(12), disclosures may be made from this system to consumer reporting agencies as defined in the Fair Credit Reporting Act (15 U.S.C. 1681a(f)) or the Federal Claims Collection Act of 1966 (31 U.S.C. 3701(a)(3)).

Policies and Practice for Storing, Retrieving, Accessing, Retaining and Disposing of Records in the System:

Storage:

Records in this system are stored in paper and electronic format.

Retrievability:

Records may be retrieved by name, address, or other unique identifier.

Safeguards:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

Retention and Disposal:

Records are maintained in accordance with National Archives and Records Administration and FHFA retention schedules. Records are disposed of according to accepted techniques.

System Manager(s) and Address:

Office of General Counsel, and Divisions of Enterprise Regulation and Bank Regulation, Federal Housing Finance Agency, 400 7th Street SW., Washington, DC 20024.

Notification Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Access Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Contesting Record Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Source Categories:

The information is obtained from the regulated entities and other sources.

Exemptions Claimed for the System:

Information in this system is exempt from disclosure under subsections 552a(d)(5), and 552a(k)(2) of the Privacy Act.

FHFA-17

System Name:

Visitor Badge, Employee and Contractor Personnel Day Pass, and Trackable Mail System.

Security Classification:

Sensitive but unclassified.

System Location:

Federal Housing Finance Agency, 400 Seventh Street SW., Washington, DC 20024, and any alternate work site utilized by employees of the Federal Housing Finance Agency (FHFA) or individuals assisting such employees.

Categories of Individuals Covered by the System:

Members of the public and employees/contractor personnel from other Federal agencies who visit FHFA; FHFA employees and contractor personnel who require a day pass; and FHFA employees who pre-register or authorize visitors to enter FHFA office space. The system also covers individuals or organizations that send or deliver trackable mail to FHFA (e.g., express mail, courier mail, or other forms of mail that are tracked from the sender to the recipient).

Categories of Records in the System:

Records may include name, photograph, signature, company name, the number of the printed badges issued, visitor category, phone number, facsimile number, address, electronic mail address; and location, date, and time of entry into the FHFA facility. Records may also include the following information from identification (ID) cards: Identification card number, date of birth, height, weight, color of hair and eyes, date of ID card expiration, and issuing jurisdiction. Records may also include the following information from HSPD-12 PIV cards: Name, photograph, biometric data, date of ID card expiration, agency and other information stored on the microchip. Further information contained within the system may be the name and title of the person being visited; the reason for the visit to the facility; notation of approved parking; and the name, phone number and electronic mail address of FHFA personnel requesting authorization for the visitor access. The system may maintain check-in and check-out times, current status of visitor, and ID number assigned for each visitor record.

For trackable mail, records may include package check in time, number of packages, name of employee or contractor personnel to whom the package is addressed, location of package, sender's name and address, type of package, added description (if appropriate), carrier or agent delivering the package, time and name of person to whom package is delivered, final destination within FHFA, and mail tracking number assigned to the package.

Authority for Maintenance of the System:

12 U.S.C. 4513(a)(2)B) and Executive Order 13231, Critical Infrastructure Protection in the Information Age (October 16, 2001).

Purpose(s):

The purpose of the system is to permit access to FHFA facilities by public visitors and representatives from other Federal agencies. It is also used to issue day passes for FHFA employees or contractor personnel who are not presently in possession of their Federal Government-issued ID card (i.e., HSPD-12) and need to enter the workplace to perform their duties. The system is further used to record and monitor the status of trackable mail.

Routine Uses of Records Maintained in the System, Including Categories of Users and the Purpose of such Uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To a court, magistrate, or administrative tribunal in the course of presenting evidence, including disclosures to opposing counsel or witnesses in the course of civil discovery, litigation, or settlement negotiations, or in connection with criminal law proceedings, or in response to a subpoena from a court of competent jurisdiction.

(9) To the Office of Management and Budget, Department of Justice (DOJ), Department of Labor, Office of Personnel Management, Equal Employment Opportunity Commission, Office of Special Counsel, Department of Homeland Security, or other Federal agencies to obtain advice regarding statutory, regulatory, policy, and other requirements related to the purpose for which FHFA collected the records.

(10) To DOJ, (including United States Attorney Offices), or other Federal agency conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(11) To the National Archives and Records Administration or other Federal agencies pursuant to records management inspections being conducted under the authority of 44 U.S.C. 2904 and 2906.

(12) To an agency, organization, or individual for the purpose of performing audit or oversight operations as authorized by law, but only such information as is necessary and relevant to such audit or oversight function.

Disclosure to Consumer Reporting Agencies:

None.

Policies and Practices for Storing, Retrieving, Accessing, Retaining, and Disposing of Records in the System:

Storage:

Records are maintained in electronic format, paper form, and magnetic disk or tape. Electronic records are stored in computerized databases. Paper and magnetic disk or tape records are stored in locked file rooms, locked file cabinets, or locked safes.

Retrievability:

Records may be retrieved by name, address, visitor ID number, trackable mail tracking number, or some other unique identifier.

Safeguards:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

Retention and Disposal:

Records are retained and disposed of in accordance with the appropriate National Archives and Records Administration General Records Schedules and FHFA Records Retention and Disposition Schedules. Disposal is by shredding or other appropriate disposal system.

System Manager(s) and Address:

Office of the Chief Operating Officer, Federal Housing Finance Agency, 400 Seventh Street SW., Washington, DC 20024.

Notification Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Access Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Contesting Record Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Source Categories:

Information is provided by visitors seeking access to FHFA facilities to meet with FHFA employees or contractor personnel, or to attend FHFA sponsored events; by FHFA employees who pre-register visitors; by FHFA employees or contractors who do not have their Federal Government-issued ID card (i.e., HSPD-12) and need access to FHFA facilities; by individuals sending trackable mail; and by carriers or agents that deliver such mail.

Exemptions Claimed for the System:

None.

FHFA-18

System Name:

Reasonable Accommodation Information System.

Security Classification:

Sensitive but unclassified.

System Location:

Federal Housing Finance Agency, 400 Seventh Street SW., Washington, DC 20024, and any alternate work site utilized by employees of the Federal Housing Finance Agency (FHFA) or individuals assisting such employees.

Categories of Individuals Covered by the System:

Applicants for employment, employees (current and former), and any other individuals who request or receive a reasonable accommodation under Sections 501, 504, and 701 of the Rehabilitation Act of 1973, and the Americans with Disabilities Act, as amended. This also includes authorized individuals or representatives (e.g., family member or attorney) who file requests for reasonable accommodation on behalf of an applicant for employment, employee, or other individual, as well as former employees who requested or received reasonable accommodation during their employment with FHFA.

Categories of Records in the System:

Records may include requester's name, contact information (i.e., address, telephone number, email address and any other information provided), or other unique identifier; requester's authorized representative's name and contact information (i.e., address, telephone number, email address and any other information provided); requester's status (i.e., applicant, employee, or other); request date; job(s) (occupational series, grade level, and agency component) for which a reasonable accommodation had been requested; other reasons for requesting a reasonable accommodation; information concerning the nature of any disability and the need for accommodation; and appropriate medical or other documentation provided in support of the request. Records may also include details of a reasonable accommodation request to include type(s) of accommodation requested; whether the accommodation requested was pre-employment or during employment, or for some other reason; how the requested accommodation would assist the individual in applying for a job, performing current job functions, or meeting some other need/requirement; the amount of time taken to process the request; whether the request was granted or denied and, if denied, the reason for the denial; and the sources of any assistance consulted in trying to identify possible reasonable accommodations.

Authority for Maintenance of the System:

The Rehabilitation Act of 1973 (29 U.S.C. 791); Americans with Disabilities Act, as amended; 29 CFR part 1630; Executive Orders 13163, 13164 and 13548; Equal Employment Opportunity Commission (EEOC) Policy Guidance on Executive Order 13164; and EEOC Enforcement Guidance: Application of the American with Disabilities Act (ADA) to Contingent Workers Placed by Temporary Agencies and Other Staffing Firms.

Purpose(s):

The purpose of the system is to allow FHFA to collect and maintain records on applicants for employment, employees (including former employees), and others who request a reasonable accommodation under Sections 501, 504, and 701 of the Rehabilitation Act of 1973 and the Americans with Disabilities Act, as amended, and to In addition, the purpose of the System is to track and report to appropriate entities the processing of requests for reasonable accommodation to ensure compliance with applicable laws and regulations, and to preserve and maintain the confidentiality of medical information. Information in this system will be used to evaluate, approve, deny, and/or implement a request for reasonable accommodation.

Routine Uses of Records Maintained in the System, Including Categories of Users and the Purpose of such Uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To FHFA employees and others, including persons, consultants, contractor personnel, entities, vendors or suppliers, employees of other government agencies, whether federal, state, or local, as necessary to make a decision on a request for accommodation or to implement the decision.

(9) To a court, magistrate, or administrative tribunal in the course of presenting evidence, including disclosures to opposing counsel or witnesses in the course of civil discovery, litigation, or settlement negotiations or in connection with criminal law proceedings or in response to a subpoena from a court of competent jurisdiction.

(10) To another Federal agency or commission with responsibility for labor or employment relations or other issues, including equal employment opportunity and reasonable accommodation issues, when that agency or commission has jurisdiction over reasonable accommodation.

(11) To the Office of Management and Budget, Department of Justice (DOJ), Department of Labor, Office of Personnel Management, Equal Employment Opportunity Commission, or Office of Special Counsel to obtain advice regarding statutory, regulatory, policy, and other requirements related to reasonable accommodation.

(12) To appropriate third parties contracted by FHFA to facilitate mediation or other dispute resolution procedures or programs.

(13) To the Department of Defense for purposes of procuring assistive technologies and services through the Computer/Electronic Accommodation Program in response to a request for reasonable accommodation.

(14) To DOJ, (including United States Attorney Offices), or other Federal agency conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(15) To the National Archives and Records Administration or other Federal agencies pursuant to records management inspections being conducted under the authority of 44 U.S.C. 2904 and 2906.

(16) To an agency, organization, or individual for the purpose of performing audit or oversight operations as authorized by law, but only such information as is necessary and relevant to such audit or oversight function.

Disclosure to Consumer Reporting Agencies:

None.

Policies and Practices For Storing, Retrieving, Accessing, Retaining, and Disposing of Records in the System:

Storage:

Records are maintained in electronic format, paper form, and magnetic disk or tape. Electronic records are stored in computerized databases. Paper and magnetic disk or tape records are stored in locked file rooms, locked file cabinets, or locked safes.

Retrievability:

Records may be retrieved by name, or some other unique identifier.

Safeguards:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

Retention and Disposal:

Records are retained and disposed of in accordance with the appropriate National Archives and Records Administration General Records Schedules and FHFA Records Retention and Disposition Schedules. Disposal is by shredding or other appropriate disposal system.

System Manager(s) and Address:

Office of the Minority and Women Inclusion, Federal Housing Finance Agency, 400 Seventh Street SW., Washington, DC 20024.

Notification Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Access Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Contesting Record Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Source Categories:

Information is provided by applicants for employment, employees, other individuals requesting a reasonable accommodation, or their authorized representatives, as well as individuals who are responsible for processing such requests.

Exemptions Claimed for the System:

None.

FHFA-19

System Name:

Computer Systems Activity and Access Records System.

Security Classification:

Sensitive but unclassified.

System Location:

Federal Housing Finance Agency, 400 Seventh Street SW., Washington, DC 20024, and any alternate work site utilized by employees of the Federal Housing Finance Agency (FHFA) or by individuals assisting such employees.

Categories of Individuals Covered by the System:

Employees and contractor personnel of FHFA, members of the public, employees and contractor personnel from other Federal agencies, and individuals or organizations who provide information to FHFA via electronic mail, text message, instant message, facsimile, social media, Web site feedback forms, smart phone, laptops, desktops, tablets, or similar devices or methods.

Categories of Records in the System:

Records may include the name, address, telephone number, electronic mail address, instant message ID, and similar identifiers of the individual accessing FHFA information systems; the source Internet Protocol (IP) address used to access the information system, the date and time of log-on and log-off to the information system, the information resources which were accessed to include the file or page name, and a description of actions performed by the individual; the destination IP address of the system, which may include the Uniform Resource Locator address, date and time of the connection and disconnection, and size of the transmission; keywords propagated by Internet/Intranet Web sites; technical machine data as the system may generate, such as machine-name field and media access control address, and browser type and version; electronic mail systems, including the electronic mail address of the sender and receiver of the electronic mail message, and the subject, date, content, and time of the electronic mail; user access to FHFA office automation networks, including wireless networks, as well as denials of access; information relating to mainframe/enterprise server and wireless access; and verification and authorization records, such as successful logins and failed login attempts and password changes.

Authority for Maintenance of the System:

The Computer Security Act of 1987, 40 U.S.C. 11331, and 12 U.S.C. 4513(a)(2)(B).

Purpose(s):

The underlying data in this system of records is used by FHFA computer systems and security employees or persons authorized to assist these employees to plan and manage computer system services and to otherwise perform their official duties. Authorized FHFA employees or contractor personnel may use the records in the system to monitor an individual's use of FHFA information systems, and to ensure compliance with the FHFA information systems guidelines and procedures, including those for wireless or remote access. Authorized FHFA employees or contractor personnel may use the records in this system to investigate improper access or use related to the computer system; to initiate disciplinary or other actions related to improper access or use; or, where the record(s) may appear to indicate a violation or potential violation of law, to refer such record(s) to the appropriate investigative office within FHFA, or law enforcement agencies for investigation.

Routine Uses of Records Maintained in the System, Including Categories of Users and the Purpose of such Uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) Disclosure may be made to a Congressional office from the record of an individual in response to an inquiry from the Congressional office made at the request of that individual.

(7) To contractor personnel, grantees, volunteers, interns, and others performing or working on a contract, service, grant, cooperative agreement, or project for FHFA.

(8) To a court, magistrate, or administrative tribunal in the course of presenting evidence, including disclosures to opposing counsel or witnesses in the course of civil discovery, litigation, or settlement negotiations or in connection with criminal law proceedings or in response to a subpoena from a court of competent jurisdiction.

(9) To the Office of Management and Budget, Department of Justice (DOJ), Department of Labor, Office of Personnel Management, Equal Employment Opportunity Commission, Office of Special Counsel, Department of Homeland Security, or other Federal agencies to obtain advice regarding statutory, regulatory, policy, and other requirements related to the purpose for which FHFA collected the records.

(10) To DOJ, (including United States Attorney Offices), or other Federal agency conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(11) To the National Archives and Records Administration or other Federal agencies pursuant to records management inspections being conducted under the authority of 44 U.S.C. 2904 and 2906.

(12) To an agency, organization, or individual for the purpose of performing audit or oversight operations as authorized by law, but only such information as is necessary and relevant to such audit or oversight function.

Disclosure to Consumer Reporting Agencies:

None.

Policies and Practices for Storing, Retrieving, Accessing, Retaining, and Disposing of Records in the System:

Storage:

Records are maintained in electronic format, paper form, and magnetic disk or tape. Electronic records are stored in computerized databases. Paper and magnetic disk, or tape records are stored in locked file rooms, locked file cabinets, or locked safes.

Retrievability:

Records may be retrieved by name, address, email address, telephone number, IP or MAC address, or some other unique identifier.

Safeguards:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

Retention and Disposal:

Records are retained and disposed of in accordance with the appropriate National Archives and Records Administration General Records Schedules and FHFA Records Retention and Disposition Schedules. Disposal is by shredding or other appropriate disposal system.

System Manager(s) and Address:

Office of Technology and Information Management, Federal Housing Finance Agency, 400 Seventh Street SW., Washington, DC 20024.

Notification Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Access Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Contesting Record Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Source Categories:

Most records are generated internally from computer activity logs, individuals covered by the system who submit information to FHFA, and FHFA employees and contractor personnel.

Exemptions Claimed for the System:

None.

FHFA-20

System Name:

Telecommunications System.

Security Classification:

Sensitive but unclassified.

System Location:

Federal Housing Finance Agency, 400 Seventh Street SW., Washington, DC 20024, and any alternate work site utilized by employees of the Federal Housing Finance Agency (FHFA) or by individuals assisting such employees.

Categories of Individuals Covered by the System:

Employees and contractor personnel of FHFA and other individuals who use, or are assigned FHFA telecommunications devices, including Voice over Internet Protocol (VOIP), landline, and cellular telephones; wireless devices including wireless hand-held devices; and facsimile machines. Members of the public, employees, and contractor personnel from other Federal agencies, and other individuals who provide information to FHFA via electronic mail, text message, instant message, facsimile, social media, Web site feedback forms, telephone (landline, VOIP, and cellular), or other similar methods.

Categories of Records in the System:

Records may include name, photograph, signature, company name, telephone number, cellular number, facsimile number, BlackBerry PIN and number, home or work address, electronic mail address, instant message identification, voice recordings, pager number, and similar information. In addition, records may include information relating to the use of FHFA telecommunication devices such as, name, address, source, target, duration, and date; charges billed to telecommunication devices; assignment of telecommunication devices to individuals covered by this system and telecommunication device number; and the results of administrative inquiries to determine responsibility for the use or misuse of a telecommunication device or telecommunication resources, including the placement of local and long distance telephone calls.

Authority for Maintenance of the System:

The Computer Security Act of 1987, 40 U.S.C. 1441, and 12 U.S.C. 4513(a)(2)(B).

Purpose(s):

The records in this system are maintained to facilitate management of telecommunication systems and devices; to analyze information to verify usage; to determine responsibility for use of telecommunications systems or devices including placement of specific local and long distance calls; to prevent and detect the misuse of telecommunication resources; and to serve as the basis for appropriate disciplinary action in the event those resources are being or have been misused.

Routine Uses of Records Maintained in the System, Including Categories of Users and the Purpose of such Uses:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To a court, magistrate, or administrative tribunal in the course of presenting evidence, including disclosures to opposing counsel or witnesses in the course of civil discovery, litigation, or settlement negotiations or in connection with criminal law proceedings or in response to a subpoena from a court of competent jurisdiction.

(9) To the Office of Management and Budget, Department of Justice (DOJ), Department of Labor, Office of Personnel Management, Equal Employment Opportunity Commission, Office of Special Counsel, Department of Homeland Security, or other Federal agencies to obtain advice regarding statutory, regulatory, policy, and other requirements related to the purpose for which FHFA collected the records.

(10) To DOJ, (including United States Attorney Offices), or other Federal agency conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(11) To the National Archives and Records Administration or other Federal agencies pursuant to records management inspections being conducted under the authority of 44 U.S.C. 2904 and 2906.

(12) To an agency, organization, or individual for the purpose of performing audit or oversight operations as authorized by law, but only such information as is necessary and relevant to such audit or oversight function.

Disclosure to Consumer Reporting Agencies:

None.

Policies and Practices for Storing, Retrieving, Accessing, Retaining, and Disposing of Records in the System:

Storage:

Records are maintained in electronic format, paper form, and magnetic disk or tape. Electronic records are stored in computerized databases. Paper and magnetic disk, or tape records are stored in locked file rooms, locked file cabinets, or locked safes.

Retrievability:

Records may be retrieved by name, address, email address, telephone number, or some other unique identifier.

Safeguards:

Records are safeguarded in a secured environment. Buildings where records are stored have security cameras and 24-hour security guard service. Computerized records are safeguarded through use of access codes and other information technology security measures. Paper records are safeguarded by locked file rooms, locked file cabinets, or locked safes. Access to the records is restricted to those who require the records in the performance of official duties related to the purposes for which the system is maintained.

Retention and Disposal:

Records are retained and disposed of in accordance with the appropriate National Archives and Records Administration General Records Schedules and FHFA Records Retention and Disposition Schedules. Disposal is by shredding or other appropriate disposal system.

System Manager(s) and Address:

Office of Technology and Information Management, Federal Housing Finance Agency, 400 Seventh Street SW., Washington, DC 20024.

Notification Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Access Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Contesting Record Procedures:

Direct inquiries as to whether this system contains a record pertaining to an individual to the Privacy Act Officer either electronically, or by regular mail, or facsimile. Submit electronic requests at https://publicaccesslink.fhfa.gov/palMain.aspx. The regular mail address is: Privacy Act Officer, Federal Housing Finance Agency, 400 7th Street SW., Washington, DC 20024. The facsimile number is: 202-649-1073. For the quickest possible handling, mark your electronic submission, letter, or facsimile and the subject line, envelope, or facsimile cover sheet “Privacy Act Request” in accordance with the procedures set forth in 12 CFR part 1204.

Record Source Categories:

Information is provided by individuals accessing or using FHFA telecommunication resources or devices.

Exemptions Claimed for the System:

None.

Dated: August 1, 2012.
Edward J. DeMarco,
Acting Director, Federal Housing Finance Agency.

[FR Doc. 2012-19572 Filed 8-8-12; 8:45 am]

BILLING CODE 8070-01-P